DEPARTMENT OF COMMERCE

National Oceanic and Atmospheric Administration

Cancellation of Meeting of Advisory Committee on Commercial Remote Sensing

AGENCY: National Oceanic and Atmospheric Administration.

ACTION: Notice of public meeting cancellation.

SUMMARY: The Advisory Committee on Commercial Remote Sensing (ACCRES) meeting on April 28, 2015 is cancelled.

DATES: Date and Time: The cancelled meeting will be rescheduled in May or June of 2015.

ADDRESSES: The meeting location will be announced at the time the new meeting announcement is placed in the Federal Register.

SUPPLEMENTARY INFORMATION: As required by section 10(a) (2) of the Federal Advisory Committee Act, 5 U.S.C. App. (1982), notice is hereby given of the meeting of ACCRES. ACCRES was established by the Secretary of Commerce (Secretary) on May 21, 2002, to advise the Secretary through the Under Secretary of Commerce for Oceans and Atmosphere on long- and short-range strategies for the licensing of commercial remote sensing satellite systems.

FOR FURTHER INFORMATION CONTACT: Tahara Dawkins, NOAA/NESDIS/CRSRA, 1335 East West Highway, Room 8260, Silver Spring, Maryland 20910; telephone (301) 713-3385, fax (301) 713-1249, email Tahara.Dawkins@noaa.gov, or Richard James at telephone (301) 713-0572, email Richard.James@noaa.gov.

Tahara Dawkins,
Director Commercial Remote Sensing and Regulatory Affairs.

[FR Doc. 2015-07875 Filed 4-6-15; 8:45 am]

BILLING CODE CODE 3510-HR-P